DEPARTMENT OF THE INTERIOR

National Park Service

[NPS-WASO-NRNHL-18228; PPWOCRADI0, PCU00RP14.R50000]

National Register of Historic Places; Notification of Pending Nominations and Related Actions

Nominations for the following properties being considered for listing or related actions in the National Register were received by the National Park Service before April 25, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by June 3, 2015. Before including your address, phone number, email address, or other personal identifying information in your comment, you should be aware that your entire comment—including your personal identifying information—may be made publicly available at any time. While you can ask us in your comment to withhold your personal identifying information from public review, we cannot guarantee that we will be able to do so.

Dated: April 30, 2015.
J. Paul Loether,
Chief, National Register of Historic Places/National Historic Landmarks Program.

COLORADO

Las Animas County

Santa Fe Trail Mountain Route Trail Segment—Delhi Vicinity I, (Santa Fe Trail MPS), Address Restricted, Delhi, 15000313

Santa Fe Trail Mountain Route Trail Segment—Delhi Vicinity II, (Santa Fe Trail MPS), Address Restricted, Delhi, 15000314

Santa Fe Trail Mountain Route Trail Segment—Delhi Vicinity III, (Santa Fe Trail MPS), Address Restricted, Delhi, 15000315

ILLINOIS

Sangamon County

Central Springfield Historic District (Boundary Increase and Additional Documentation), Roughly Jefferson, Jackson, 2nd & 7th Sts., Springfield, 15000316

Strawbridge—Shepherd House, 5255 Shepherd Rd., Springfield, 15000317

KANSAS

McPherson County

Lindquist, P.J., Building, 116 S. Main St., Lindsborg, 15000318

MISSOURI

St. Louis Independent city

Shell Building, The, 1221 Locust St., St. Louis (Independent City), 15000319

NEVADA

Carson City Independent city

Nevada State Prison, 3301 E. 5th St., Carson City (Independent City), 15000320

NEW JERSEY

Burlington County

Florence Public School No. 1, 203 W. 2nd St., Florence Township, 15000321

OHIO

Franklin County

Drexel Theater, 2254 E. Main St., Bexley, 15000322

Graham, A.B., House, 159 Clinton Heights Ave., Columbus, 15000323

Theresa Building, 823 E. Long St., Columbus, 15000324

United States Carriage Company, 309-319 S. 4th St., Columbus, 15000325

Hamilton County

West Fourth Street Historic District (Boundary Increase), 309 Vine St., Cincinnati, 15000326

OKLAHOMA

Kay County

Hayes—Kennedy—Rivoli Theater Building, 122-124 S. Main, Blackwell, 15000327

Oklahoma County

Czech Hall of Oklahoma City—Lodge Laska, 515 SW. 6th St., Oklahoma City, 15000328

Tulsa County

Elizabeth Manor, 1820 S. Boulder Ave., W., Tulsa, 15000329

Washington County

Comer, C.A., House, (Bruce Goff Designed Resources in Oklahoma MPS) 1316 North Creek, Dewey, 15000330

OREGON

Jefferson County

Madras Army Air Field North Hanger, 2028 NW. Berg Dr., Madras, 15000331

TENNESSEE

Smith County

Moss Mounds, (Mississippian Cultural Resources of the Central Basin (AD 900-1450) MPS), Address Restricted, Elmwood, 15000332

Williamson County

Glass Mounds Discontiguous Archeological District, 4000 Golf Club Ln., Franklin, 15000333

TEXAS

Bastrop County

Hopewell School, (Rosenwald School Building Program in Texas MPS), 690 TX 21 W., Cedar Creek, 15000334

Harris County

Stowers Building, 820 Fannin, Houston, 15000335

Nueces County

Galvan Ballroom, 1632 Agnes, Corpus Christi, 15000336

Tarrant County

Parker—Browne Company Building, 1212 E. Lancaster Ave., Fort Worth, 15000337

Terry County

Abilene Courts, 633 S. 11th St., Abilene, 15000338

Wichita County

Perkins, Joe and Lois, House, 3301 Harrison St., Wichita Falls, 15000339

WISCONSIN

Sauk County

Downtown Baraboo Historic District, Roughly bounded by 5th & 2nd Aves., 5th, Ash, 1st, Oak & Birch Sts., Baraboo, 15000340

Walworth County

Wandawega Inn, W5453 Lake View Dr., Sugar Creek, 15000341

[FR Doc. 2015-12026 Filed 5-18-15; 8:45 am]

BILLING CODE 4312-51-P